DEPARTMENT OF AGRICULTURE

Grain Inspection, Packers and Stockyards Administration

Opportunity for Designation in Topeka, KS; Cedar Rapids, IA; Minot, ND; and Cincinnati, OH, Areas and Request for Comments on the Official Agencies Serving These Areas

AGENCY: Grain Inspection, Packers and Stockyards Administration, USDA.

ACTION: Notice.

SUMMARY: The designations of the official agencies listed below will end on June 30, 2009. GIPSA is asking persons interested in providing official services in the areas served by these agencies to submit applications for designation. GIPSA is also asking for comments on the quality of services provided by these currently designated agencies:

Kansas Grain Inspection Service, Inc. (Kansas);

Mid-Iowa Grain Inspection, Inc. (Mid-Iowa);

Minot Grain Inspection, Inc. (Minot); and

Tri-State Grain Inspection Service, Inc. (Tri-State).

DATES: Applications and comments must be received on or before January 2, 2009.

ADDRESSES: GIPSA invites you to submit applications and comments on this notice by any of the following methods:

• To apply for designation, go to “FGISonline” at https://fgis.gipsa.usda.gov/default_home_FGIS.aspx then select Delegations/Designations and Export Registrations (DDR). You will need a USDA e-authentication, username, password, and a customer number prior to applying.

• Hand Delivery or Courier: Karen Guagliardo, Review Branch Chief, Compliance Division, GIPSA, USDA, Room 1647-S, 1400 Independence Avenue, SW., Washington, DC 20250.

• Fax: (202) 690-2755, to the attention of: Karen Guagliardo.

• E-mail: Karen.W.Guagliardo@usda.gov.

• Mail: Karen Guagliardo, Review Branch Chief, Compliance Division, GIPSA, USDA, STOP 3604, 1400 Independence Avenue, SW., Washington, DC 20250-3604.

• Internet: Go to http://www.regulations.gov. Follow the online instructions for submitting and reading comments online.

Read Applications and Comments: All applications and comments will be available for public inspection at the office above during regular business hours (7 CFR 1.27(b)).

FOR FURTHER INFORMATION CONTACT: Karen Guagliardo at 202-720-7312, e-mail Karen.W.Guagliardo@usda.gov.

SUPPLEMENTARY INFORMATION: Section 7(f)(1) of the United States Grain Standards Act (USGSA or Act) (7 U.S.C. 71-87k) authorizes GIPSA's Administrator to designate a qualified applicant to provide official services in a specified area after determining that the applicant is better able than any other applicant to provide such official services.

Under section 7(g)(1) of the USGSA, designations of official agencies are effective for 3 years unless terminated by the Secretary, but may be renewed according to the criteria and procedures prescribed in section 7(f) of the Act.

Current Designations Being Announced for Renewal
Official agency | Main office | Designation start | Designation end
Kansas | Topeka, KS | 7/1/2009 | 6/30/2012
Mid-Iowa | Cedar Rapids, IA | 7/1/2009 | 6/30/2012
Minot | Minot, ND | 7/1/2009 | 6/30/2012
Tri-State | Cincinnati, OH | 7/1/2009 | 6/30/2012

Kansas

Pursuant to Section 7(f)(2) of the USGSA, the following geographic area, in the States of Colorado, Kansas, Nebraska, and Wyoming is assigned to Kansas:

The entire State of Colorado.

The entire State of Kansas.

In Nebraska:

Bounded on the North by the northern Scotts Bluff County line; the northern Morrill County line east to Highway 385;

Bounded on the East by Highway 385 south to the northern Cheyenne County line; the northern and eastern Cheyenne County lines; the northern and eastern Deuel County lines;

Bounded on the South by the southern Deuel, Cheyenne, and Kimball County lines; and

Bounded on the West by the western Kimball, Banner, and Scotts Bluff County lines.

In Wyoming:

Goshen, Laramie, and Platt Counties.

Kansas' assigned geographic area does not include the following grain elevators inside Kansas' area which have been and will continue to be serviced by Hastings Grain Inspection, Inc.: Farmers Coop and Big Springs Elevator, both in Big Springs, Deuel County, Nebraska.

Mid-Iowa

Pursuant to Section 7(f)(2) of the USGSA, the following geographic area in the States of Minnesota and Iowa is assigned to Mid-Iowa:

In Minnesota:

Wabasha, Olmstead, Winona, Houston, and Fillmore Counties.

In Iowa:

Bounded on the North by the northern Winneshiek and Allamakee County lines;

Bounded on the East by the eastern Allamakee County line; the eastern and southern Clayton County lines; the eastern Buchanan County line; the northern and eastern Jones County lines; the eastern Cedar County line south to State Route 130;

Bounded on the South by State Route 130 west to State Route 38; State Route 38 south to Interstate 80; Interstate 80 west to U.S. Route 63; and

Bounded on the West by U.S. Route 63 north to State Route 8; State Route 8 east to State Route 21; State Route 21 north to D38; D38 east to State Route 297; State Route 297 north to V49; V49 north to Bremer County; the southern Bremer County line; the western Fayette and Winneshiek County lines.

Minot

Pursuant to Section 7(f)(2) of the USGSA, the following geographic area, in the State of North Dakota, is assigned to Minot:

Bounded on the North by the North Dakota State line east to the eastern Bottineau County line;

Bounded on the East by the eastern Bottineau County line south to the northern Pierce County line; the northern Pierce County line east to State Route 3; State Route 3 south to State Route 200;

Bounded on the South by State Route 200 west to State Route 41; State Route 41 south to U.S. Route 83; U.S. Route 83 northwest to State Route 200; State Route 200 west to U.S. Route 85; U.S. Route 85 south to Interstate 94; Interstate 94 west to the North Dakota State line; and

Bounded on the West by the North Dakota State line.

The following grain elevators, located outside of the above contiguous geographic area, are part of this geographic area assignment: Benson Quinn Company, Underwood, and Falkirk Farmers Elevator, Washburn, both in McLean County, North Dakota; and Harvey Farmers Elevator, Harvey, Wells County, North Dakota (located inside Grain Inspection, Inc.'s, area).

Tri-State

Pursuant to Section 7(f)(2) of the USGSA, the following geographic area in the States of Indiana, Kentucky, and Ohio is assigned to Tri-State:

In Indiana:

Dearborn, Decatur, Franklin, Ohio, Ripley, Rush (south of State Route 244), and Switzerland Counties.

In Kentucky:

Bath, Boone, Bourbon, Bracken, Campbell, Clark, Fleming, Gallatin, Grant, Harrison, Kenton, Lewis (west of State Route 59), Mason, Montgomery, Nicholas, Owen, Pendleton, and Robertson Counties.

In Ohio:

Bounded on the North by the northern Preble County line east; the western and northern Miami County lines east to State Route 296; State Route 296 east to State Route 560; State Route 560 south to the Clark County line; the northern Clark County line east to U.S. Route 68;

Bounded on the East by U.S. Route 68 south to U.S. Route 22; U.S. Route 22 east to State Route 73; State Route 73 southeast to the Adams County line; the eastern Adams County line;

Bounded on the South by the southern Adams, Brown, Clermont, and Hamilton County lines; and

Bounded on the West by the western Hamilton, Butler, and Preble County lines.

Opportunity for Designation

Interested persons, including Kansas, Mid-Iowa, Minot, and Tri-State, may apply for designation to provide official services in the geographic areas specified above under the provisions of section 7(f) of the USGSA and 7 CFR 800.196(d). Designation in the specified geographic areas is for the period beginning July 1, 2009, and ending June 30, 2012. To apply for designation or for more information contact the Compliance Division at the address listed above or visit the GIPSA Web site at http://www.gipsa.usda.gov.

Request for Comments

GIPSA is also publishing this notice to provide interested persons the opportunity to comment on the quality of services provided by the Kansas, Mid-Iowa, Minot, and Tri-State official agencies. In the designation process, GIPSA is particularly interested in receiving comments citing reasons and pertinent data in support of or objection to the designation of the applicants. Submit all comments to the Compliance Division at the above address or at http://www.regulations.gov.

GIPSA will consider applications, comments, and other available information to determine which applicant will be designated.

Authority: 7 U.S.C. 71-87k.

Alan Christian,
Acting Administrator, Grain Inspection, Packers and Stockyards Administration.

[FR Doc. E8-28246 Filed 11-28-08; 8:45 am]

BILLING CODE 3410-KD-P